DEPARTMENT OF TRANSPORTATION

Office of the Secretary

[Order 2000-7-23, Docket OST-00-7152]

Determination of Farwest Airlines, LLC

AGENCY: Department of Transportation.

ACTION: Notice of order to show cause.

SUMMARY: The Department of Transportation is directing all interested persons to show cause why it should not issue an order finding that Farwest Airlines, LLC, is fit, willing, and able to provide scheduled passenger operations as a commuter air carrier.

Responses: All interested persons wishing to respond to the Department of Transportation's tentative fitness determination should file their responses with the Department of Transportation Dockets, 400 Seventh Street, SW., Room PL-401, Washington, DC 20590, and serve them on all persons listed in Attachment A to the order. Responses shall be filed no later than August 2, 2000.

FOR FURTHER INFORMATION CONTACT: Galvin Coímbre, Air Carrier Fitness Division (X-56, Room 6401), U.S. Department of Transportation, 400 Seventh Street, SW., Washington, DC 20590, (202) 366-5347.

Dated: July 19, 2000.
A. Bradley Mims,
Acting Assistant Secretary for Aviation and International Affairs.

[FR Doc. 00-18777 Filed 7-24-00; 8:45 am]

BILLING CODE 4710-08-P